DEPARTMENT OF TRANSPORTATION

Office of the Secretary

Notice of Applications for Certificates of Public Convenience and Necessity and Foreign Air Carrier Permits Filed Under Subpart B (Formerly Subpart Q)

Notice of Applications for Certificates of Public Convenience and Necessity and Foreign Air Carrier Permits Filed Under Subpart B (formerly Subpart Q) during the Week Ending October 31, 2008. The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0314.

Date Filed: October 28, 2008.

Due Date for Answers, Conforming Applications, or Motion To Modify Scope: November 18, 2008.

Description: Application of Avolar Aerolineas, S.A. de C.V. (“Avolar”) requesting an exemption and foreign air carrier permit authorizing Avolar (1) to provide scheduled foreign air transportation of persons, property and mail between Los Angeles and San Jose del Cabo and Oakland and Tijuana, and (2) to conduct charters.

Docket Number: DOT-OST-2008-0318.

Date Filed: October 31, 2008.

Due Date for Answers, Conforming Applications, or Motion To Modify Scope: November 21, 2008.

Description: Application of Air Excursions, LLC requesting a certificate of public convenience and necessity to transport passengers, property and mail in interstate air transportation.

Renee V. Wright,
Program Manager, Docket Operations, Federal Register Liaison.

[FR Doc. E8-28822 Filed 12-4-08; 8:45 am]

BILLING CODE 4910-9X-P